DEPARTMENT OF LABOR

Employment and Training Administration

[TA-W-81,071; TA-W-81,071A]

II-VI, Inc., Infrared Optics-Saxonburg Division, Saxonburg, PA; Leased Workers From Adecco, Carol Harris, Unlimited Staffing, and Staffmark, Working On-Site at II-VI, Inc., Infrared Optics-Saxonburg Division, Saxonburg, PA; Notice of Revised Determination on Reconsideration

The initial investigation, initiated on November 10, 2011, resulted in a negative determination, issued on February 8, 2012, that was based on the findings that the subject firm did not experience a decline in sales or production nor did the subject firm shift production to a foreign country during the relevant period. The determination was applicable to workers and former workers of II-VI, Inc., Infrared Optics-Saxonburg Division, Saxonburg, Pennsylvania. The Department's Notice of negative determination was published in the Federal Register on February 14, 2012 (77 FR 8281). The workers' firm is engaged in activities related to the production of infrared and CO2 laser optics and related materials.

The workers of II-VI, Inc., Infrared Optics-Saxonburg Division, Saxonburg, Pennsylvania, were previously certified eligible to apply for TAA under TA-W-64,895. The certification did not include on-site leased workers from Adecco, Carol Harris, Unlimited Staffing, and Staffmark.

To support the request for reconsideration, the petitioner supplied additional information regarding a shift in production to a foreign country to supplement that which was gathered during the initial investigation.

Based on information provided during the reconsideration investigation, the Department determines that worker separations at the subject firm are related to a shift in the production of like or directly competitive articles to a foreign country.

Conclusion

After careful review of the additional facts obtained on reconsideration, I determine that workers of II-VI, Inc., Infrared Optics-Saxonburg Division, Saxonburg, Pennsylvania, who were engaged in employment related to production of infrared and CO2 laser optics and related materials, meet the worker group certification criteria under Section 222(a) of the Act, 19 U.S.C. 2272(a). In accordance with Section 223 of the Act, 19 U.S.C. 2273, I make the following certification:

All workers of II-VI, Inc., Infrared Optics-Saxonburg Division, Saxonburg, Pennsylvania (TA-W-81,071) who became totally or partially separated from employment on or after January 27, 2011, through April 27, 2014, and all workers in the group threatened with total or partial separation from employment on April 27, 2012 through April 27, 2014, are eligible to apply for adjustment assistance under Chapter 2 of Title II of the Trade Act of 1974, as amended; and all leased workers from Adecco, Carol Harris, Unlimited Staffing, and Staffmark, working on-site at II-VI, Inc., Infrared Optics-Saxonburg Division, Saxonburg, Pennsylvania, (TA-W-81,071A) who became totally or partially separated from employment on or after February 13, 2010, through April 27, 2014, and all workers in the group threatened with total or partial separation from employment on April 27, 2012 through April 27, 2014, are eligible to apply for adjustment assistance under Chapter 2 of Title II of the Trade Act of 1974, as amended.

Signed in Washington, DC, this 27th day of April, 2012.
Del Min Amy Chen,
Certifying Officer, Office of Trade Adjustment Assistance.

[FR Doc. 2012-14907 Filed 6-18-12; 8:45 am]

BILLING CODE 4510-FN-P